DEPARTMENT OF TRANSPORTATION

Pipeline and Hazardous Materials Safety Administration

[Docket No. PHMSA-2024-0055]

Pipeline Safety: Request for Special Permit; Gas Transmission Northwest LLC

AGENCY: Pipeline and Hazardous Materials Safety Administration (PHMSA); U.S. Department of Transportation (DOT).

ACTION: Notice.

SUMMARY: PHMSA is publishing this notice to solicit public comment on a request for a special permit for three special permit segments submitted by Gas Transmission Northwest LLC (GTN), a subsidiary of TC Energy, Inc. This notice was published previously but now contains updated documents, described further in SUPPLEMENTARY INFORMATION below. GTN is seeking relief from compliance with certain requirements in the Federal pipeline safety regulations. PHMSA has proposed conditions to ensure the special permit is consistent with pipeline safety. At the conclusion of the 30-day comment period, PHMSA will review the comments received from this notice as part of its evaluation to grant or deny the special permit request.

DATES: Submit any comments regarding this special permit request by January 5, 2026.

ADDRESSES: Comments should reference the docket number for this specific special permit request and may be submitted in the following ways:

• E-Gov Website: http://www.regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request that you are commenting on at the beginning of your comments. If you submit your comments by mail, please submit two copies. To receive confirmation that PHMSA has received your comments, please include a self-addressed stamped postcard. Internet users may submit comments at http://www.regulations.gov.

Note: There is a privacy statement published on http://www.regulations.gov. Comments, including any personal information provided, are posted without changes or edits to http://www.regulations.gov.

Confidential Business Information: Confidential Business Information (CBI) is commercial or financial information that is both customarily and actually treated as private by its owner. Under the Freedom of Information Act (FOIA) (5 United States Code 552), CBI is exempt from public disclosure. If your comments responsive to this notice contain commercial or financial information that is customarily treated as private, that you actually treat as private, and that is relevant or responsive to this notice, it is important that you clearly designate the submitted comments as CBI. Pursuant to 49 Code of Federal Regulations (CFR) § 190.343, you may ask PHMSA to give confidential treatment to information you give to the agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Jamie Huff, DOT, PHMSA-PHP-80, 1200 New Jersey Avenue SE, Washington, DC 20590-0001. Any commentary PHMSA receives that is not specifically designated as CBI will be placed in the public docket for this matter.

FOR FURTHER INFORMATION CONTACT:

General: Ms. Jamie Huff by telephone at 812-677-8809 or by email at jamie.huff@dot.gov.

Technical: Mr. Zaid Obeidi by telephone at 202-768-4354, or by email at zaid.obeidi@dot.gov.

SUPPLEMENTARY INFORMATION: PHMSA received a special permit request from GTN, a subsidiary of TC Energy, Inc., on March 27, 2024, seeking to deviate from the Federal pipeline safety regulations in 49 CFR 192.611 and 192.619, for three special permit segments (SPSs), which include 11,178 feet (approximately 2.1 miles) of the GTN gas transmission pipeline named Mainline A located in Boundary and Kootenai counties, Idaho.

Due to class location changes from Class 1 to Class 3, GTN is required to revise or reduce the maximum allowable operating pressure (MAOP) for the Mainline A pipeline segments from its current MAOP of 911 pounds per square inch gauge. This special permit is being requested to allow GTN to operate the Mainline A pipeline segments in Class 3 locations at its current MAOP by implementing enhanced integrity management procedures in lieu of replacing pipe or lowering the operating pressure as required by Part 192.

The draft conditions were preliminarily determined to ensure that the special permit is consistent with pipeline safety. The requested SPSs are as follows:

SPS No. | County, state | Outside diameter (inches) | Line name | Length (feet) | Year installed
1 | Boundary County, ID | 36 | GTN Mainline A | 10,370 | 1961
2 | Kootenai County, ID | 36 | GTN Mainline A | 584 | 1961
3 | Kootenai County, ID | 36 | GTN Mainline A | 220 | 1961

PHMSA previously published this request on October 15, 2024, with the public comment period closing November 14, 2024. The Special Permit Request letter, proposed special permit with conditions, environmental assessment (EA), and all other pertinent documents for the original special permit are available in Docket No. PHMSA-2024-0055 in the Federal Docket Management System located at www.regulations.gov.

Following the closure of the comment period, PHMSA began reviewing its special permit process to determine if special permit conditions could be streamlined in order to ease unnecessary burdens on applicants. As part of that process, PHMSA gave GTN the option of seeking reconsideration of its application and conducting another round of public notice and comment. GTN exercised that option. As a result, the proposed conditions in this new version of the special permit have been revised from the version previously noticed.

Since the issuance of the original EA, on July 1, 2025, DOT published DOT Order 5610.1D: Procedures for Considering Environmental Impacts which outline DOT's processes and requirements for complying with the National Environmental Policy Act (NEPA) under 42 U.S.C. 4321 et seq. PHMSA has incorporated the following Categorical Exclusion (CE) from DOT 5610.1D into its implementing procedures: 1. Granting, renewing, or denying a special permit related to waiving class location or odorization requirements, following the procedures set forth in 49 CFR 190.341, including the identification of any enforceable conditions, imposed pursuant to 49 CFR 190.341(d)(2), that are required to prevent and address pipeline safety and environmental risk. On August 21, 2025, PHMSA reviewed the special permit request for compliance with NEPA. Based on the scope of the action, PHMSA has further determined that no extraordinary circumstances apply. In order to ensure continued human and environmental safety, the operator must fulfill the mitigation conditions of the special permit; continue to employ good operating practices; and continue to follow any additional applicable permitting requirements, State laws, or other pre-existing Federal requirements related to environmental protection. Should conditions change, or should extraordinary circumstances materialize, the operator must contact PHMSA for reevaluation. The proposed action is hereby categorically excluded from further NEPA review. The finalized CE will be published at https://www.phmsa.dot.gov/planning-and-analytics/environmental-analysis-and-compliance/implementing-procedures. The website also includes information on DOT Order 5610.1D.

The special permit request and revised proposed special permit with conditions for the TC Energy GTN pipeline are available for review and public comment in Docket No. PHMSA-2024-0055. PHMSA invites interested persons to review and submit comments on the special permit request and EA in the docket. Please include comments on potential safety and environmental impacts as a result of the special permit request. Comments may include relevant data.

Before issuing a decision on the special permit request, PHMSA will evaluate all comments received on or before the comment closing date. PHMSA will consider each relevant comment it receives in making its decision to grant or deny this special permit request.

Issued in Washington, DC, on December 1, 2025 under authority delegated in 49 CFR 1.97.
Linda Daugherty,
Acting Associate Administrator for Pipeline Safety.

[FR Doc. 2025-21901 Filed 12-3-25; 8:45 am]

BILLING CODE 4910-60-P